FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, without revision, the Investment in Bank Premises Notification (FR 4014; OMB No. 7100-0139).

DATES: Comments must be submitted on or before April 19, 2022.

ADDRESSES: You may submit comments, identified by FR 4014, by any of the following methods:

• Agency Website: https://www.federalreserve.gov/. Follow the instructions for submitting comments at https://www.federalreserve.gov/apps/foia/proposedregs.aspx.

• Email: regs.comments@federalreserve.gov. Include the OMB number or FR number in the subject line of the message.

• Fax: (202) 452-3819 or (202) 452-3102.

• Mail: Ann E. Misback, Secretary, Board of Governors of the Federal Reserve System, 20th Street and Constitution Avenue NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room M-4365A, 2001 C St. NW, Washington, DC 20551, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, Washington, DC 20551, (202) 452-3829.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement, and other documentation, will be made available on the Board's public website at https://www.federalreserve.gov/apps/reportforms/review.aspx or may be requested from the agency clearance officer, whose name appears above. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, Without Revision, the Following Information Collection

Report title: Investment in Bank Premises Notification.

Agency form number: FR 4014.

OMB control number: 7100-0139.

Frequency: Event-generated.

Respondents: State member banks.

Estimated number of respondents: 8.

Estimated average hours per response: 0.5.

Estimated annual burden hours: 4.

General description of report: The Federal Reserve Act (FRA) requires a state member bank to seek prior approval of the Board before making an investment in bank premises or the securities of a corporation holding its bank premises in certain circumstances. The Board has implemented this requirement in its Regulation H—Membership of State Banking Institutions in the Federal Reserve System (12 CFR part 208), which requires a state member bank seeking to make such an investment to provide prior notice to the appropriate Federal Reserve Bank. The Federal Reserve uses the information provided in the notice to determine whether to object to the proposed investment.

Legal authorization and confidentiality: The FR 4014 is authorized by section 24A(a) of the FRA, which requires that state member banks obtain Board approval prior to investing in bank premises that exceed statutory thresholds.¹ The FR 4014 is additionally authorized by section 11 of the FRA, which authorizes the Board to require such statements and reports of state member banks as the Board may deem necessary.² The FR 4014 is required to obtain a benefit.

¹ 12 U.S.C. 371d(a).

² 12 U.S.C. 248(a)(1).

The information contained on the FR 4014 is not considered confidential unless an applicant requests confidential treatment in accordance with the Board's Rules Regarding Availability of Information.³ Requests for confidential treatment of information are reviewed on a case-by-case basis. Information provided on the FR 4014 may be exempt from disclosure pursuant to exemption 4 of the Freedom of Information Act (FOIA) if it is nonpublic commercial or financial information, which is both customarily and actually treated as private by the respondent.⁴

³ 12 CFR 261.17.

⁴ 5 U.S.C. 552(b)(4).

Board of Governors of the Federal Reserve System, February 14, 2021.
Michele Taylor Fennell,
Deputy Associate Secretary of the Board.

[FR Doc. 2022-03485 Filed 2-17-22; 8:45 am]

BILLING CODE 6210-01-P